DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before March 10, 2008.

ADDRESSES: You may submit your comments, identified by “docket number” on the subject line, by any of the following methods:

1. Electronic Mail: Standards-Petitions@dol.gov.

2. Facsimile: 1-202-693-9441.

3. Regular Mail: MSHA, Office of Standards, Regulations, and Variances, 1100 Wilson Boulevard, Room 2349, Arlington, Virginia 22209, Attention: Patricia W. Silvey, Director, Office of Standards, Regulations, and Variances.

4. Hand-Delivery or Courier: MSHA, Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Edward Sexauer, Chief, Regulatory Development Division at 202-693-9444 (Voice), sexauer.edward@dol.gov (E-mail), or 202-693-9441 (Telefax), or contact Barbara Barron at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2007-073-C.

Petitioner: B & B Coal Company, 225 East Main Street, Joliett, Pennsylvania 17981.

Mine: B & B Rockridge Slope, MSHA I.D. No. 36-07741, located in Schuylkill County, Pennsylvania.

Regulation Affected: 30 CFR 75.311(a) (Main mine fan operation).

Modification Request: The petitioner requests a modification of the existing standard to allow the main mine fan to be idle during non-working hours. The petitioner states that historically, the main mine fan operation has been shut down during non-working shifts, because of icing during the winter months. The petitioner proposes to use the following stipulations in the fan stoppage plan: (1) Shut the main mine fan down during idle periods; (2) no mechanized equipment will be used underground; (3) no electric power circuits enter the underground mine; (4) the main mine fan will be operated for a minimum of one-half hour after the pressure recorder indicates that the normal mine ventilating pressure has been reached prior to anyone entering the mine; (5) the mine battery locomotive may be used to make the required pre-shift examination; (6) the communication circuit 9-volts will be energized prior to the pre-shift being made; (7) a certified person will conduct an examination of the entire mine according to the requirements in 30 CFR 75.360; and (8) persons will be allowed to enter the mine after it is determined to be safe and the pre-shift examination results have been recorded. The petitioner further states that repeated testing of methane concentrations have shown that concentration levels have at no time risen above 0.0 percent. The petitioner asserts that the proposed alternative method would provide at least the same measure of protection as the existing standard.

Docket Number: M-2007-074-C.

Petitioner: KenAmerican Resources, Inc., 7590 State Route 181, Central City, Kentucky 42330.

Mine: Paradise Mine, MSHA I.D. No. 15-17741, located in Muhlenberg County, Kentucky.

Regulation Affected: 30 CFR 75.350 (Belt air course ventilation).

Modification Request: The petitioner proposes to develop two inner seam slopes from the No. 11 coal seam to the No. 9 coal seam, vertically a distance of approximately 110 feet. The petitioner states that: (1) The slopes are designed at a nine degree slope for a total distance of 1,000 feet; (2) as an alternative plan, air locks will be used at both the top and bottom of the belt/return slope so that the belt and return will be one slope for the purpose of return air and coal haulage; (3) a carbon monoxide monitoring system will be used on the belt at the top and bottom of the slope with monitoring via computer in the mine office and the mine dispatcher station on the surface; and (4) return air coursed up the slope will be routed to the return at the top of the slope and will not mix with belt air. The petitioner asserts that the proposed alternative method will at all times guarantee the same measure of protection and safety afforded the miners by the mandatory standard.

Docket Number: M-2008-001-C.

Petitioner: S & M Coal Company, 1744 E. Grand Avenue, Tower City, Pennsylvania 17980.

Mine: Buck Mountain Slope, MSHA I.D. No. 36-02022, located in Daupin County, Pennsylvania.

Regulation Affected: 30 CFR 75.1400 (Hoisting equipment; general).

Modification Request: The petitioner proposes to use the slope (gunboat) to transport persons in shafts and slopes using an increased rope strength/safety factor and secondary safety rope connection instead of using safety catches or other no less effective devices. The petitioner asserts that a functional safety catch capable of working properly in slopes with knuckles and curves has not been developed and that the proposed alternative method will not provide less than the same measure of protection afforded the miners under the current standard.

Dated: January 30, 2008.
Jack Powasnik,
Deputy Director, Office of Standards, Regulations, and Variances.

[FR Doc. E8-2229 Filed 2-6-08; 8:45 am]

BILLING CODE 4510-43-P